DEPARTMENT OF HOUSING AND URBAN DEVELOPMENT

[Docket No. FR-5477-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Smith, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Coast Guard: Commandant, United States Coast Guard, Attn: Jennifer Stomber, 2100 Second St., SW., Stop 7901, Washington, DC 20593-0001; (202) 475-5609; GSA: Mr. Gordon Creed, Acting Deputy Assistant Commissioner, General Services Administration, Office of Property Disposal, 18th & F Streets, NW., Washington, DC 20405; (202) 501-0084; Navy: Mr. Albert Johnson, Director of Real Estate, Department of the Navy, Naval Facilities Engineering Command, Washington Navy Yard, 1330 Patterson Ave., SW., Suite 1000, Washington, DC 20374; (202) 685-9305; (These are not toll-free numbers).

Dated: February 17, 2011.
Mark R. Johnston,
Deputy Assistant Secretary for Special Needs.

TITLE V, FEDERAL SURPLUS PROPERTY PROGRAM FEDERAL REGISTER REPORT FOR 02/25/2011

Suitable/Available Properties

Building

California

Facility 1

OTHB Radar Site

Tulelake CA 91634

Landholding Agency: Air Force

Property Number: 18200830012

Status: Unutilized

Comments: 7920 sq. ft., most recent use—communications

Facility 2

OTHB Radar Site

Tulelake CA 91634

Landholding Agency: Air Force

Property Number: 18200830014

Status: Unutilized

Comments: 900 sq. ft., most recent use—veh maint shop

Facilities 3, 4

OTHB Radar Site

Tulelake CA 91634

Landholding Agency: Air Force

Property Number: 18200830015

Status: Unutilized

Comments: 4160 sq. ft. each, most recent use—communications

Facility 1

OTHB Radar Site

Christmas Valley CA 97641

Landholding Agency: Air Force

Property Number: 18200830016

Status: Unutilized

Comments: 16566 sq. ft., most recent use—communications

Facility 2

OTHB Radar Site

Christmas Valley CA 97641

Landholding Agency: Air Force

Property Number: 18200830017

Status: Unutilized

Comments: 900 sq. ft., most recent use—veh maint shop

Facility 4

OTHB Radar Site

Christmas Valley CA 97641

Landholding Agency: Air Force

Property Number: 18200830018

Status: Unutilized

Comments: 14,190 sq. ft., most recent use—communications

Facility 6

OTHB Radar Site

Christmas Valley CA 97641

Landholding Agency: Air Force

Property Number: 18200830019

Status: Unutilized

Comments: 14,190 sq. ft., most recent use—transmitter bldg.

Colorado

Bldg. 810—Trailer

270 South Aspen Street

Buckley AFB

Aurora CO

Landholding Agency: Air Force

Property Number: 18201110005

Status: Unutilized

Comments: Off-site removal only; 1,768 sq. ft; current use: pilot crew qtrs., fair conditions—$5,000 (estimated in repairs)

Bldg 811—Crews Trailer

272 South Aspen Street

Buckley AFB

Aurora CO 80011

Landholding Agency: Air Force

Property Number: 18201110008

Status: Unutilized

Comments: Off-site removal only, 2340 sq. ft., current use; pilot crew qtrs., fair conditions—estimated $5,000 in repairs

Georgia

Fed. Bldg. Post Office/Court

404 N. Broad St.

Thomasville GA 31792

Landholding Agency: GSA

Property Number: 54201110006

Status: Surplus

GSA Number: 4-G-GA-878AA

Comments: 49,366 total sq. ft., Postal Svc currently occupies 11,101 sq. ft. through Sept. 30, 2012. Current usage: gov't offices, asbestos has been identified as well as plumbing issues.

Hawaii

Bldg. 849

Bellows AFS

Bellows AFS HI

Landholding Agency: Air Force

Property Number: 18200330008

Status: Unutilized

Comments: 462 sq. ft., concrete storage facility, off-site use only

Maine

Bldgs 1, 2, 3, 4

OTH-B Radar Site

Columbia Falls ME

Landholding Agency: Air Force

Property Number: 18200840009

Status: Unutilized

Comments: various sq. ft., most recent use—storage/office

Suitable/Available Properties

Land

Mississippi

Land

Vicksburg MS 39180

Landholding Agency: GSA

Property Number: 54201110007

Status: Excess

GSA Number: 4-D-MS-0568-AA

Comments: 11 acres, unpaved w/radio tower on the land, current use: communications, Warren Co. currently holds the license until 08/31/2014 however, revocable by the Sect. of Army

Building

New York

Bldg. 240

Rome Lab

Rome NY 13441

Landholding Agency: Air Force

Property Number: 18200340023

Status: Unutilized

Comments: 39,108 sq. ft., presence of asbestos, most recent use—Electronic Research Lab

Bldg. 247

Rome Lab

Rome NY 13441

Landholding Agency: Air Force

Property Number: 18200340024

Status: Unutilized

Comments: 13,199 sq. ft., presence of asbestos, most recent use—Electronic Research Lab

Bldg. 248

Rome Lab

Rome NY 13441

Landholding Agency: Air Force

Property Number: 18200340025

Status: Unutilized

Comments: 4,000 sq. ft., presence of asbestos, most recent use—Electronic Research Lab

Bldg. 302

Rome Lab

Rome NY 13441

Landholding Agency: Air Force

Property Number: 18200340026

Status: Unutilized

Comments: 10,288 sq. ft., presence of asbestos, most recent use—communications facility

South Carolina

256 Housing Units

Charleston AFB

South Side Housing

Charleston SC

Landholding Agency: Air Force

Property Number: 18200920001

Status: Excess

Comments: various sq. ft., presence of asbestos/lead paint, off-site use only

Suitable/Available Properties

Land

California

Parcels L1 & L2

George AFB

Victorville CA 92394

Landholding Agency: Air Force

Property Number: 18200820034

Status: Excess

Comments: 157 acres/desert, pump-and-treat system, groundwater restrictions, AF access rights, access restrictions, environmental concerns

Missouri

Communications Site

County Road 424

Dexter MO

Landholding Agency: Air Force

Property Number: 18200710001

Status: Unutilized

Comments: 10.63 acres

Outer Marker Annex

Whiteman AFB

Knob Noster MO 65336

Landholding Agency: Air Force

Property Number: 18200940001

Status: Unutilized

Comments: 0.75 acres, most recent use—communication

FAA

North Congress Ave & 110th St.

Kansas City MO 64153

Landholding Agency: GSA

Property Number: 54201110005

Status: Surplus

GSA Number: 7-U-MO-0688

Comments: 123 acres, legal constraint: utility easement only, current use: vacant land

North Carolina

0.14 acres

Pope AFB

Pope AFB NC

Landholding Agency: Air Force

Property Number: 18200810001

Status: Excess

Comments: most recent use—middle marker, easement for entry

0.13 acres

DYAB, Dyess AFB

Tye TX 79563

Landholding Agency: Air Force

Property Number: 18200810002

Status: Unutilized

Comments: most recent use—middle marker, access limitation

Suitable/Unavailable Properties

Building

Washington

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 142 sq. ft., possible asbestos/lead paint, most recent use—residential

9 Bldgs./Geiger Heights

Fairchild AFB

Spokane WA 99224

Landholding Agency: Air Force

Property Number: 18200420005

Status: Unutilized

Comments: 1620 sq. ft., possible asbestos/lead paint, most recent use—residential

22 Bldgs./Geiger Heights

Fairchild AFB

Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

5 Bldgs./Geiger Heights

Fairchild AFB

222, 224, 271, 295, 260

Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Suitable/Unavailable Properties

Land

South Dakota

Tract 67

Ellsworth AFB

Box Elder SD 57706

Landholding Agency: Air Force

Property Number: 18200310005

Status: Unutilized

Comments: 121 acres, bentonite layer in soil, causes movement

Unsuitable Properties

Building

Alabama

15 Bldgs.

Dauphin Island

Mobile AL

Landholding Agency: Coast Guard

Property Number: 88200930002

Status: Underutilized

Reasons: Secured Area

Alaska

Bldg. 9485

Elmendorf AFB

Elmendorf AK

Landholding Agency: Air Force

Property Number: 18200730001

Status: Unutilized

Reasons: Secured Area

Bldg. 70500

Seward AFB

Seward AK 99664

Landholding Agency: Air Force

Property Number: 18200820001

Status: Unutilized

Reasons: Secured Area

Bldg. 3224

Eielson AFB

Eielson AK 99702

Landholding Agency: Air Force

Property Number: 18200820002

Status: Unutilized

Reasons: Secured Area, Extensive deterioration

Bldgs. 1437, 1190, 2375

Eielson AFB

Eielson AK

Landholding Agency: Air Force

Property Number: 18200830001

Status: Unutilized

Reasons: Extensive deterioration, Secured Area

5 Bldgs.

Eielson AFB

Eielson AK

Landholding Agency: Air Force

Property Number: 18200830002

Status: Unutilized

Directions: 3300, 3301, 3315, 3347, 3383

Reasons: Secured Area, Extensive deterioration

4 Bldgs.

Eielson AFB

Eielson AK

Landholding Agency: Air Force

Property Number: 18200830003

Status: Unutilized

Directions: 4040, 4332, 4333, 4480

Reasons: Extensive deterioration, Secured Area

Bldgs. 6122, 6205

Eielson AFB

Eielson AK

Landholding Agency: Air Force

Property Number: 18200830004

Status: Unutilized

Reasons: Extensive deterioration, Secured Area

Bldg. 8128

Elmendorf AFB

Elmendorf AK 99506

Landholding Agency: Air Force

Property Number: 18200830005

Status: Underutilized

Reasons: Secured Area

Bldgs. 615, 617, 751, 753

Eareckson Air Station

Shemya Island AK

Landholding Agency: Air Force

Property Number: 18200920015

Status: Unutilized

Reasons: Secured Area, Within airport runway clear zone, Extensive deterioration, Within 2000 ft. of flammable or explosive material

Bldgs. 100, 101

Point Barrow Long Range

Radar Site

Point Barrow AK

Landholding Agency: Air Force

Property Number: 18201010001

Status: Unutilized

Reasons: Within airport runway clear zone, Within 2000 ft., of flammable or explosive material

Bldg. 100 and 101

Long Range Radar Site

Point Barrow AK

Landholding Agency: Air Force

Property Number: 18201020003

Status: Unutilized

Reasons: Within airport runway clear zone, Within 2000 ft., of flammable or explosive material

7 Bldgs.

Eareckson Air Station

Eareckson AK 99546

Landholding Agency: Air Force

Property Number: 18201020004

Status: Unutilized

Directions: 132, 152, 153, 750, 3013, 3016, and 4012

Reasons: Within airport runway clear zone, Extensive deterioration, Secured Area

33 Bldgs.

Eielson AFB

Eielson AK 99702

Landholding Agency: Air Force

Property Number: 18201040005

Status: Excess

Directions: 5136, 5137, 5138, 5139, 5140, 5141, 5142, 5143, 5144, 5161, 5162, 5163, 5183, 5184, 5185, 5186, 5196, 5197, 5211, 5255, 5256, 5257, 5259, 5260, 5261, 5262, 5263, 5264, 5265, 5266, 5267, 5268

Reasons: Extensive deterioration, Secured Area

Bldg. S14

U.S. Coast Guard Base Support Unit Kodiak

Kodiak AK

Landholding Agency: Coast Guard

Property Number: 88201110002

Status: Excess

Reasons: Extensive deterioration

Arizona

Railroad Spur

Davis-Monthan AFB

Tucson AZ 85707

Landholding Agency: Air Force

Property Number: 18200730002

Status: Excess

Reasons: Within airport runway clear zone

Arkansas

Military Family Housing, 2 Bldgs.

Eielson AFB

Eielson AR 99702

Landholding Agency: Air Force

Property Number: 18201110007

Status: Excess

Directions: Bldgs: 5258 & 5198

Reasons: Extensive deterioration

California

Garages 25001 thru 25100

Edwards AFB

Area A

Los Angeles CA 93524

Landholding Agency: Air Force

Property Number: 18200620003

Status: Unutilized

Reasons: Secured Area, Extensive deterioration

Bldg. 00275

Edwards AFB

Kern CA 93524

Landholding Agency: Air Force

Property Number: 18200730003

Status: Unutilized

Reasons: Within airport runway clear zone, Secured Area, Extensive deterioration

Bldgs. 02845, 05331, 06790

Edwards AFB

Kern CA 93524

Landholding Agency: Air Force

Property Number: 18200740001

Status: Unutilized

Reasons: Extensive deterioration

Bldgs. 07173, 07175, 07980

Edwards AFB

Kern CA 93524

Landholding Agency: Air Force

Property Number: 18200740002

Status: Unutilized

Reasons: Secured Area

Bldg. 5308

Edwards AFB

Kern CA 93523

Landholding Agency: Air Force

Property Number: 18200810003

Status: Unutilized

Reasons: Secured Area, Extensive deterioration

Facility 100

Pt. Arena AF Station

Mendocino CA 95468

Landholding Agency: Air Force

Property Number: 18200810004

Status: Excess

Reasons: Secured Area, Extensive deterioration

Bldgs. 1952, 1953, 1957, 1958

Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

5 Bldgs.

Pt. Arena AF Station

101, 102, 104, 105, 108

Mendocino CA 95468

Landholding Agency: Air Force

Property Number: 18200820019

Status: Excess

Reasons: Extensive deterioration, Secured Area

Bldgs. 160, 161, 166

Pt. Arena AF Station

Mendocino CA 95468

Landholding Agency: Air Force

Property Number: 18200820020

Status: Excess

Reasons: Extensive deterioration, Secured Area

8 Bldgs.

Pt. Arena AF Station

Mendocino CA 95468

Landholding Agency: Air Force

Property Number: 18200820021

Status: Excess

Directions: 201, 202, 203, 206, 215, 216, 217, 218

Reasons: Secured Area, Extensive deterioration

7 Bldgs.

Pt. Arena AF Station

Mendocino CA 95468

Landholding Agency: Air Force

Property Number: 18200820022

Status: Excess

Directions: 220, 221, 222, 223, 225, 226, 228

Reasons: Secured Area, Extensive deterioration

Bldg. 408

Pt. Arena AF Station

Mendocino CA 95468

Landholding Agency: Air Force

Property Number: 18200820023

Status: Excess

Reasons: Extensive deterioration, Secured Area

Bldgs. 601 thru 610

Pt. Arena AF Station

Mendocino CA 95468

Landholding Agency: Air Force

Property Number: 18200820024

Status: Excess

Reasons: Secured Area, Extensive deterioration

Bldgs. 611-619

Pt. Arena AF Station

Mendocino CA 95468

Landholding Agency: Air Force

Property Number: 18200820025

Status: Excess

Reasons: Secured Area, Extensive deterioration

Bldgs. 620 thru 627

Pt. Arena AF Station

Mendocino CA 95468

Landholding Agency: Air Force

Property Number: 18200820026

Status: Excess

Reasons: Extensive deterioration, Secured Area

Bldgs. 654, 655, 690

Pt. Arena AF Station

Mendocino CA 95468

Landholding Agency: Air Force

Property Number: 18200820027

Status: Excess

Reasons: Extensive deterioration, Secured Area

Bldgs. 300, 387

Pt Arena Comm Annex

Mendocino CA 95468

Landholding Agency: Air Force

Property Number: 18200820029

Status: Excess

Reasons: Extensive deterioration, Secured Area

Bldgs. 700, 707, 796, 797

Pt. Arena Comm Annex

Mendocino CA 95468

Landholding Agency: Air Force

Property Number: 18200820030

Status: Excess

Reasons: Extensive deterioration, Secured Area

Bldgs. 748, 838

Vandenberg AFB

Vandenberg CA 93437

Landholding Agency: Air Force

Property Number: 18200820033

Status: Unutilized

Reasons: Secured Area

6 Bldgs.

Beale AFB

Beale AFB CA 95903

Landholding Agency: Air Force

Property Number: 18200930001

Status: Unutilized

Directions: 355, 421, 1062, 1088, 1250, 1280

Reasons: Extensive deterioration

7 Bldgs.

Beale AFB

Beale AFB CA 95903

Landholding Agency: Air Force

Property Number: 18200930002

Status: Unutilized

Directions: 2160, 2171, 2340, 2432, 2491, 2560, 5800

Reasons: Extensive deterioration

8 Bldgs.

Vandenberg AFB

Santa Barbara CA 93437

Landholding Agency: Air Force

Property Number: 18200940003

Status: Unutilized

Directions: 182, 575, 578, 580, 582, 583, 584, 589

Reasons: Extensive deterioration, Secured Area

4 Bldgs.

Vandenberg AFB

Santa Barbara CA 93437

Landholding Agency: Air Force

Property Number: 18200940004

Status: Unutilized

Directions: 590, 596, 598, 599

Reasons: Secured Area, Extensive deterioration

5 Bldgs.

Vandenberg AFB

Santa Barbara CA 93437

Landholding Agency: Air Force

Property Number: 18200940005

Status: Unutilized

Directions: 708, 742, 955, 1836, 13403

Reasons: Secured Area, Extensive deterioration

14 Bldgs.

Beale AFB

Beale AFB CA 95903

Landholding Agency: Air Force

Property Number: 18200940006

Status: Unutilized

Directions: 4158, 3936, 3942, 3947, 4314, 4318, 4256, 4120, 4103, 3871, 3873, 3887, 3919, 4133

Reasons: Extensive deterioration

Bldgs. 4320, 800

Beale AFB

Beale AFB CA 95903

Landholding Agency: Air Force

Property Number: 18200940007

Status: Unutilized

Reasons: Extensive deterioration

4 Bldgs.

Beale AFB

Beale AFB CA 95903

Landholding Agency: Air Force

Property Number: 18200940008

Status: Unutilized

Directions: 4136, 5223, 5228, 5278

Reasons: Extensive deterioration

4 Bldgs.

Vandenberg AFB

Vandenberg CA 93437

Landholding Agency: Air Force

Property Number: 18201010002

Status: Unutilized

Directions: 1892, 9340, 13400, 21110

Reasons: Secured Area

Bldgs. 1154, 2459, 5114

Beale AFB

Beale CA 95903

Landholding Agency: Air Force

Property Number: 18201010004

Status: Unutilized

Reasons: Extensive deterioration

Bldgs. 591, 970, 1565

Vandenberg AFB

Vandenberg CA 93437

Landholding Agency: Air Force

Property Number: 18201020005

Status: Unutilized

Reasons: Secured Area, Extensive deterioration

Bldg. 1213

Beale AFB

Beale CA 95903

Landholding Agency: Air Force

Property Number: 18201030002

Status: Unutilized

Reasons: Extensive deterioration

Bldg. 7087

Edwards AFB

Kern CA 93524

Landholding Agency: Air Force

Property Number: 18201030003

Status: Unutilized

Reasons: Secured Area

Blgd. 411

Ft. MacArthur Family Housing

San Pedro CA

Landholding Agency: Air Force

Property Number: 18201040004

Status: Unutilized

Reasons: Extensive deterioration

Vandenberg AFB

null

Vandenberg CA 93437

Landholding Agency: Air Force

Property Number: 18201040009

Status: Unutilized

Reasons: Secured Area

37 Bldgs.

Beale AFB

Marysville CA 95901

Landholding Agency: Air Force

Property Number: 18201040014

Status: Unutilized

Directions: 4199, 4205, 4207, 4211, 4215, 4218, 4219, 4222, 4226, 4227, 4229, 4230, 4231, 4238, 4241, 4242, 4256, 4260, 4264, 4268, 4284, 4286, 4308, 4310, 4314, 4318, 4320, 4333, 4341, 4353, 4355, 4382, 4384, 4395, 4397, 4399, 4401

Reasons: Extensive deterioration

38 Bldgs.

Beale AFB

Marysville CA 95901

Landholding Agency: Air Force

Property Number: 18201040015

Status: Unutilized

Directions: 4415, 4417, 4457, 4467, 4475, 4496, 4534, 4598, 4600, 4603, 4605, 4618, 4620, 4634, 4636, 4639, 4641, 4659, 4661, 4664, 4666, 4675, 4677, 4691, 4693, 4703, 4705, 4708, 4710, 4717, 4719, 4724, 4725, 4726, 4727, 4732, 4734, 4522

Reasons: Extensive deterioration

11 Bldgs.

Beale AFB

Marysville CA 95901

Landholding Agency: Air Force

Property Number: 18201040016

Status: Unutilized

Directions: 5205, 5216, 5223, 5228, 5236, 5238, 5277, 5278, 5279, 5294, 5297

Reasons: Extensive deterioration

36 Bldgs.

Beale AFB

Marysville CA 95901

Landholding Agency: Air Force

Property Number: 18201040017

Status: Unutilized

Directions: 3873, 3887, 3919, 3936, 3942, 3947, 3961, 4075, 4103, 4105, 4115, 4118, 4119, 4120, 4122, 4133, 4136, 4137, 4142, 4145, 4148, 4151, 4157, 4158, 4161, 4166, 4171, 4178, 4179, 4181, 4184, 4185, 4189, 4193, 4197, 4198

Reasons: Extensive deterioration

Bldg. 2170

Marine Corps Air Station, Miramar

San Diego CA

Landholding Agency: Navy

Property Number: 77201110003

Status: Excess

Reasons: Extensive deterioration

Bldg. 210

Coast Guard Training Center

Petaluma CA 94952

Landholding Agency: Coast Guard

Property Number: 88201020002

Status: Unutilized

Reasons: Extensive deterioration, Secured Area

Bldg. 220

Coast Guard Training Center

Petaluma CA 95452

Landholding Agency: Coast Guard

Property Number: 88201020003

Status: Unutilized

Reasons: Secured Area

Bldgs. 440, 441, 442

Coast Guard Training Center

Petaluma CA 94952

Landholding Agency: Coast Guard

Property Number: 88201030001

Status: Excess

Reasons: Secured Area

Colorado

Bldg. 9038

U.S. Air Force Academy

El Paso CO 80840

Landholding Agency: Air Force

Property Number: 18200920004

Status: Unutilized

Reasons: Extensive deterioration

Bldg. 6980

U.S. Air Force Academy

El Paso CO 80840

Landholding Agency: Air Force

Property Number: 18200940009

Status: Unutilized

Reasons: Secured Area

Bldgs. 6966, 6968, 6930, 6932

USAF Academy

El Paso CO 80840

Landholding Agency: Air Force

Property Number: 18201010005

Status: Unutilized

Reasons: Secured Area

Bldg. 1413

Buckley AFB

Aurora CO

Landholding Agency: Air Force

Property Number: 18201020006

Status: Unutilized

Reasons: Extensive deterioration, Secured Area

7 Bldgs.

U.S. Air Force Academy

El Paso CO 80840

Landholding Agency: Air Force

Property Number: 18201030004

Status: Unutilized

Directions: 2330, 2331, 2332, 2333, 3190, 9020, 9035

Reasons: Secured Area

2 Bldgs.

N. Peterson Blvd.

Colorado Springs CO 80914

Landholding Agency: Air Force

Property Number: 18201040003

Status: Excess

Directions: 670,1820

Reasons: Within 2000 ft. of flammable or explosive material, Other—legal constraints-—leased from City

Connecticut

Boathouse

USCG Academy

New London CT 06320

Landholding Agency: Coast Guard

Property Number: 88200930001

Status: Unutilized

Reasons: Extensive deterioration, Secured Area

Florida

Bldg. 82

Air Force Range

Avon Park FL 33825

Landholding Agency: Air Force

Property Number: 18200840002

Status: Unutilized

Reasons: Contamination, Secured Area

Bldg. 202

Avon Park AF Range

Polk FL 33825

Landholding Agency: Air Force

Property Number: 18200930005

Status: Unutilized

Reasons: Extensive deterioration

Facility 47120

Cape Canaveral AFB

Brevard FL 32925

Landholding Agency: Air Force

Property Number: 18200940010

Status: Unutilized

Reasons: Secured Area

15 Bldgs.

Tyndall AFB

Bay FL 32403

Landholding Agency: Air Force

Property Number: 18201010006

Status: Unutilized

Directions: 129, 131, 138, 153, 156, 419, 743, 745, 1003, 1269, 1354, 1355, 1506, 6063, 6067

Reasons: Secured Area

4 Bldgs.

Cape Canaveral AFS

Brevard FL 32925

Landholding Agency: Air Force

Property Number: 18201010007

Status: Unutilized

Directions: 56621, 56629, 56632, 67901

Reasons: Secured Area

Bldgs. 1622, 60408, and 60537

Cape Canaveral AFS

Brevard FL 32925

Landholding Agency: Air Force

Property Number: 18201020007

Status: Unutilized

Reasons: Secured Area

13 Bldgs.

Tyndall AFB

Bay FL 32403

Landholding Agency: Air Force

Property Number: 18201020008

Status: Excess

Directions: B111, B113, B115, B205, B206, B501, B810, B812, B824, B842, B1027, B1257, and B8402

Reasons: Secured Area, Within 2000 ft. of flammable or explosive material

Bldg. 90023

Hurlburt Field

Hurlburt FL 32544

Landholding Agency: Air Force

Property Number: 18201030005

Status: Unutilized

Reasons: Extensive deterioration, Secured Area

Bldg. 89002

Cape Canaveral AFS

Brevard FL 32920

Landholding Agency: Air Force

Property Number: 18201030006

Status: Unutilized

Reasons: Within 2000 ft. of flammable or explosive material, Secured Area

9 Bldgs.

null

Cape Canaveral AFS FL 32925

Landholding Agency: Air Force

Property Number: 18201110009

Status: Unutilized

Directions: Bldgs: 44606, 49942, 70650, 78710, 07702, 8801, 8806, 8814, 10751

Reasons: Secured Area

Georgia

6 Cabins

QSRG Grassy Pond Rec Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Bldgs. 330, 331, 332, 333

Moody AFB

Lowndes GA 31699

Landholding Agency: Air Force

Property Number: 18200810007

Status: Excess

Reasons: Extensive deterioration

Bldgs. 794, 1541

Moody AFB

Lowndes GA

Landholding Agency: Air Force

Property Number: 18200820012

Status: Unutilized

Reasons: Secured Area

Bldg. 970

Moody AFB

Lowndes GA 31699

Landholding Agency: Air Force

Property Number: 18200840003

Status: Unutilized

Reasons: Secured Area

Bldg. 205

Moody AFB

Lowndes GA 31699

Landholding Agency: Air Force

Property Number: 18200920005

Status: Unutilized

Reasons: Extensive deterioration, Secured Area

Bldgs. 104, 118, 739, 742, 973

Moody AFB

Lowndes GA 31699

Landholding Agency: Air Force

Property Number: 18200920016

Status: Unutilized

Reasons: Secured Area, Extensive deterioration

Bldgs. 134, 804, 841, 978

Moody AFB

Moody AFB GA 31699

Landholding Agency: Air Force

Property Number: 18201010008

Status: Underutilized

Reasons: Secured Area

Bldgs. 665 and 1219

Moody AFB

Moody AFB GA 31699

Landholding Agency: Air Force

Property Number: 18201020009

Status: Underutilized

Reasons: Secured Area

7 Bldgs.

Moody AFB

Moody GA 31699

Landholding Agency: Air Force

Property Number: 18201030007

Status: Unutilized

Directions: 112, 150, 716, 719, 757, 1220, 1718

Reasons: Secured Area

Guam

Bldg. 1094

AAFB Yigo

Yigo GU 96543

Landholding Agency: Air Force

Property Number: 18200830007

Status: Unutilized

Reasons: Extensive deterioration

15 Bldgs.

Andersen AFB

Yigo GU 96543

Landholding Agency: Air Force

Property Number: 18200920006

Status: Excess

Reasons: Secured Area

Bldgs. 72, 73, 74

Andersen AFB

Mount Santa Rosa GU

Landholding Agency: Air Force

Property Number: 18200920017

Status: Excess

Reasons: Extensive deterioration, Secured Area

Bldgs. 101, 102

Andersen AFB

Pots Junction GU

Landholding Agency: Air Force

Property Number: 18200920018

Status: Excess

Reasons: Extensive deterioration

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Bldg. 1713

Hickam AFB

Hickam HI

Landholding Agency: Air Force

Property Number: 18200830008

Status: Unutilized

Reasons: Extensive deterioration

Bldg. 1843

Hickam AFB

Hickam HI 96853

Landholding Agency: Air Force

Property Number: 18200920019

Status: Unutilized

Reasons: Extensive deterioration

Bldg. 1716

RPUID

Wake Island HI

Landholding Agency: Air Force

Property Number: 18201010009

Status: Unutilized

Reasons: Secured Area, Extensive deterioration

Bldg. 12

Kokee AFS

Waimea HI

Landholding Agency: Air Force

Property Number: 18201010010

Status: Unutilized

Reasons: Extensive deterioration

Bldg. 501

Hickam AFB

Hickam HI

Landholding Agency: Air Force

Property Number: 18201010011

Status: Unutilized

Reasons: Secured Area

6 Bldgs.

Kaena Point Satellite

Tracking Station

Honolulu HI

Landholding Agency: Air Force

Property Number: 18201010012

Status: Excess

Directions: 16, 18, 20, 21, 32, 33

Reasons: Extensive deterioration

Bldgs. 39 and 14111

Kaena Point Satellite Tracking Station

Honolulu HI 96792

Landholding Agency: Air Force

Property Number: 18201020010

Status: Excess

Reasons: Within 2000 ft. of flammable or explosive material, Secured Area

3 (PAR) Bldgs.

Coast Guard Base Support Unit

Honolulu HI

Landholding Agency: Coast Guard

Property Number: 88201040001

Status: Unutilized

Reasons: Secured Area, Extensive deterioration

Illinois

Bldgs. OB1, OB2, OM2

U.S. Coast Guard Station

Calumet Harbor

Chicago IL 60617

Landholding Agency: Coast Guard

Property Number: 88200940005

Status: Excess

Reasons: Extensive deterioration, Secured Area

Indiana

Bldg. 103

Grissom AFB

Peru IN 46970

Landholding Agency: Air Force

Property Number: 18200940011

Status: Excess

Reasons: Within 2000 ft. of flammable or explosive material

Bldg. 18

Grissom AFB

Peru IN 46970

Landholding Agency: Air Force

Property Number: 18201020012

Status: Excess

Reasons: Within 2000 ft. of flammable or explosive material

Kansas

27 Bldgs.

McConnell AFB

Sedgwick KS 67210

Landholding Agency: Air Force

Property Number: 18201020013

Status: Excess

Directions: 2052, 2347, 2054, 2056, 2044, 2047, 2049, 2071, 2068, 2065, 2063, 2060, 2237, 2235, 2232, 2230, 2352, 2349, 2345, 2326, 2328, 2330, 2339, 2324, 2342, 2354, and 2333

Reasons: Secured Area

Kentucky

Bldg. DA-473

USGC Obion

Owensboro KY 42303

Landholding Agency: Coast Guard

Property Number: 88201030003

Status: Unutilized

Reasons: Secured Area, Extensive deterioration

Louisiana

Barksdale Middle Marker

null

Bossier LA 71112

Landholding Agency: Air Force

Property Number: 18200730006

Status: Excess

Reasons: Extensive deterioration

TARS Sites 1-6

null

Morgan City LA 70538

Landholding Agency: Air Force

Property Number: 18201020014

Status: Unutilized

Reasons: Secured Area

6 Bldgs.

AFB

Barksdale LA

Landholding Agency: Air Force

Property Number: 18201110001

Status: Underutilized

Directions: Bldgs: 5163, 5175, 7227, 7266, 7321, 7322

Reasons: Secured Area, Extensive deterioration, Within 2000 ft. of flammable or explosive material

Maine

Facilities 1, 2, 3, 4

OTH-B Site

Moscow ME 04920

Landholding Agency: Air Force

Property Number: 18200730007

Status: Unutilized

Reasons: Within 2000 ft. of flammable or explosive material

Bldgs. B496 and 497

Bangor Internatl Airport

Bangor ME 04401

Landholding Agency: Air Force

Property Number: 18201020015

Status: Unutilized

Reasons: Secured Area

Maryland

4 Bldgs.

Coast Guard

Annapolis MD 21403

Landholding Agency: Coast Guard

Property Number: 88201010006

Status: Excess

Directions: Qtrs. A-OJ1 and Qtrs. B-OJ2; Qtrs. A-OV4 and Qtrs. B-OV5

Reasons: Secured Area

Massachusetts

Bldg. 5202

USCG Air Station

Bourne MA 02540

Landholding Agency: Coast Guard

Property Number: 88200810002

Status: Unutilized

Reasons: Extensive deterioration, Secured Area

3 Sheds

USCG Sector Southeastern

Falmouth MA 02543

Landholding Agency: Coast Guard

Property Number: 88200910001

Status: Unutilized

Reasons: Extensive deterioration, Secured Area

5 Bldgs.

USCG Air Station

3434, 3435, 3436, 5424, 5451

Bourne MA 02542

Landholding Agency: Coast Guard

Property Number: 88200920002

Status: Excess

Reasons: Secured Area, Extensive deterioration

Boathouse/Wharf/Pier

USCG Menemsha

Chilmark MA 02535

Landholding Agency: Coast Guard

Property Number: 88201030002

Status: Unutilized

Reasons: Secured Area, Extensive deterioration

Michigan

Admin. Bldg.

Station Saginaw River

Essexville MI 48732

Landholding Agency: Coast Guard

Property Number: 88200510001

Status: Unutilized

Reasons: Extensive deterioration, Secured Area

Mississippi

5 Bldgs

AFB

Keesler MS 39534

Landholding Agency: Air Force

Property Number: 18201110004

Status: Excess

Directions: Bldgs: B2804, B4203, B4812, B6903, B6918

Reasons: Secured Area

Montana

7 Bldgs. AFB

107 77th Street North

Malmstrom AFB

Malmstrom MT 59402-7540

Landholding Agency: Air Force

Property Number: 18201110002

Status: Underutilized

Directions: 581, 800, 1082, 1152, 1156, 1705, 3065

Reasons: Secured Area

Nebraska

Bldgs. 163, 402, 554

Offutt AFB

Offutt NE 68113

Landholding Agency: Air Force

Property Number: 18201030008

Status: Excess

Reasons: Secured Area

Vault Toilets

Harlan County Project

New Hampshire

Bldg. 152

Pease Internatl Tradeport

Newington NH 03803

Landholding Agency: Air Force

Property Number: 18200920007

Status: Unutilized

Reasons: Secured Area, Within 2000 ft. of flammable or explosive material

Bldg. 16

Pease Internatl Tradeport

Newington NH 03803

Landholding Agency: Air Force

Property Number: 18200930006

Status: Excess

Reasons: Within 2000 ft. of flammable or explosive material

New Jersey

Bldgs. 2609, 2611

Joint Base

McGuire NJ

Landholding Agency: Air Force

Property Number: 18201010013

Status: Unutilized

Reasons: Extensive deterioration

5 Bldgs.

Joint Base McGuire-Dix-Lakehurst

Trenton NJ 08641

Landholding Agency: Air Force

Property Number: 18201020016

Status: Unutilized

Directions: 1827, 1925, 3424, 3446, and 3449

Reasons: Extensive deterioration, Secured Area

11 Bldgs.

Coast Guard Training Center

Cape May NJ 08204

Landholding Agency: Coast Guard

Property Number: 88201040006

Status: Excess

Directions: 16A, 16B, 020, 203A, 220A, 220I, 140, 203, 220, 273

Reasons: Extensive deterioration

New Mexico

Bldg. 1016

Kirtland AFB

Bernalillo NM 87117

Landholding Agency: Air Force

Property Number: 18200730008

Status: Unutilized

Reasons: Extensive deterioration, Secured Area, Within 2000 ft. of flammable or explosive material

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Secured Area, Within 2000 ft. of flammable or explosive material

Bldgs. 20612, 29071, 37505

Kirtland AFB

Bernalillo NM 87117

Landholding Agency: Air Force

Property Number: 18200830010

Status: Unutilized

Reasons: Secured Area

Bldgs. 88, 89

Holloman AFB

Otero NM 88330

Landholding Agency: Air Force

Property Number: 18200830020

Status: Unutilized

Reasons: Within 2000 ft. of flammable or explosive material, Secured Area, Extensive deterioration

Bldgs. 312, 322

Holloman AFB

Otero NM 88330

Landholding Agency: Air Force

Property Number: 18200830021

Status: Unutilized

Reasons: Secured Area

Bldg. 569

Holloman AFB

Otero NM 88330

Landholding Agency: Air Force

Property Number: 18200830022

Status: Unutilized

Reasons: Secured Area, Within 2000 ft. of flammable or explosive material

Bldgs. 807, 833

Holloman AFB

Otero NM 88330

Landholding Agency: Air Force

Property Number: 18200830023

Status: Unutilized

Reasons: Within 2000 ft. of flammable or explosive material, Secured Area

Bldg. 1245

Holloman AFB

Otero NM 88330

Landholding Agency: Air Force

Property Number: 18200830024

Status: Unutilized

Reasons: Secured Area

5 Bldgs.

Holloman AFB

Otero NM 88330

Landholding Agency: Air Force

Property Number: 18200840004

Status: Unutilized

Directions: 1201, 1202, 1203, 1205, 1207

Reasons: Secured Area

5 Bldgs.

Holloman AFB

Otero NM 88330

Landholding Agency: Air Force

Property Number: 18200920008

Status: Unutilized

Directions: 71, 1187, 1200, 1284, 1285

Reasons: Secured Area

6 Bldgs.

Holloman AFB

Holloman AFB NM

Landholding Agency: Air Force

Property Number: 18200930007

Status: Unutilized

Directions: 920, 921, 922, 923, 924, 930

Reasons: Secured Area

Bldgs. 1113, 1127

Holloman AFB

Holloman AFB NM

Landholding Agency: Air Force

Property Number: 18200930008

Status: Unutilized

Reasons: Secured Area

Bldg. 30143

Kirtland AFB

Bernalillo NM 87117

Landholding Agency: Air Force

Property Number: 18200930009

Status: Excess

Reasons: Within 2000 ft. of flammable or explosive material, Secured Area, Extensive deterioration

Bldg. 1267, 1620

Holloman AFB

Otero NM 88330

Landholding Agency: Air Force

Property Number: 18200940013

Status: Unutilized

Reasons: Secured Area

Bldgs. 214, 851, 1199

Holloman AFB

Holloman AFB NM 88330

Landholding Agency: Air Force

Property Number: 18201010014

Status: Underutilized

Reasons: Secured Area

Bldg. 865

Holloman AFB

Otero NM 88330

Landholding Agency: Air Force

Property Number: 18201030009

Status: Unutilized

Reasons: Within 2000 ft. of flammable or explosive material, Extensive deterioration, Secured Area

Bldg. 790

Holloman AFB

Otero NM 88330

Landholding Agency: Air Force

Property Number: 18201030013

Status: Unutilized

Reasons: Secured Area, Extensive deterioration

Bldg. 880

1241 Moroni

Holloman NM 88330

Landholding Agency: Air Force

Property Number: 18201040001

Status: Unutilized

Reasons: Secured Area

Bldg. 825

Holloman AFB

Holloman NM 88330

Landholding Agency: Air Force

Property Number: 18201040002

Status: Unutilized

Reasons: Extensive deterioration

New York

Bldg. 13

USCG Staten Island

Suffolk NY 10305

Landholding Agency: Coast Guard

Property Number: 88200910002

Status: Excess

Reasons: Secured Area, Extensive deterioration

Boat House

USCG Station Eaton's Neck

Northport NY 11768

Landholding Agency: Coast Guard

Property Number: 88200920005

Status: Unutilized

Reasons: Secured Area, Extensive deterioration

North Carolina

RPFN 0S1

Group Cape Hatteras

Buxton NC 27902

Landholding Agency: Coast Guard

Property Number: 88200540001

Status: Unutilized

Reasons: Secured Area, Extensive deterioration

RPFN 053

Sector N.C.

Atlantic Beach NC 28512

Landholding Agency: Coast Guard

Property Number: 88200540002

Status: Unutilized

Reasons: Extensive deterioration, Secured Area

Equip. Bldg.

Coast Guard Station

11101 Station St.

Emerald Isle NC

Landholding Agency: Coast Guard

Property Number: 88200630001

Status: Unutilized

Reasons: Secured Area

Sewage Treatment Facility

USCG Cape Hatteras

Buxton NC 27902

Landholding Agency: Coast Guard

Property Number: 88200920006

Status: Unutilized

Reasons: Secured Area

Bldgs. OK1, OK2

USCG Station

Hobucken NC 28537

Landholding Agency: Coast Guard

Property Number: 88201010001

Status: Excess

Reasons: Secured Area, Extensive deterioration

10 Bldgs.

U.S. Coast Guard

Cape Hatteras NC

Landholding Agency: Coast Guard

Property Number: 88201010002

Status: Excess

Directions: OB2, OB4, OD1, OD2, OE1, OG1, OI1, 001, 0S1, OU1

Reasons: Floodway, Secured Area

7 Bldgs.

U.S. Coast Guard

Cape Hatteras NC

Landholding Agency: Coast Guard

Property Number: 88201010003

Status: Excess

Directions: OR1, OR2, OR4, OR5, OR6, OR7, OR8

Reasons: Floodway, Secured Area

10 Bldgs.

U.S. Coast Guard

Cape Hatteras NC

Landholding Agency: Coast Guard

Property Number: 88201010004

Status: Excess

Directions: OV1, OV4, OV5, OV6, OV7, OV8, OV9, OV10, OV11, OV12

Reasons: Floodway, Secured Area

5 Bldgs.

U.S. Coast Guard

Cape Hatteras NC

Landholding Agency: Coast Guard

Property Number: 88201010005

Status: Excess

Directions: NB1, NR1, NR2, NS1, NS2

Reasons: Floodway, Secured Area

Barracks 61

Coast Guard Support Unit

Elizabeth NC 27909

Landholding Agency: Coast Guard

Property Number: 88201040007

Status: Excess

Reasons: Within 2000 ft. of flammable or explosive material, Secured Area

North Dakota

Bldgs. 1612, 1741

Grand Forks AFB

Grand Forks ND 58205

Landholding Agency: Air Force

Property Number: 18200720023

Status: Unutilized

Reasons: Within 2000 ft. of flammable or explosive material, Secured Area

5 Bldgs.

4128 27th Ave.

Grand Forks ND 58203

Landholding Agency: Air Force

Property Number: 18201040012

Status: Unutilized

Directions: 120,200,250,255,300

Reasons: Within 2000 ft. of flammable or explosive material

Ohio

Naval Reserve Center

null

Cleveland OH 44114

Landholding Agency: Coast Guard

Property Number: 88200740002

Status: Unutilized

Reasons: Secured Area, Within 2000 ft. of flammable or explosive material, Within airport runway clear zone

Bldgs. OO1, OT1, OC1, OC2, OC2

U.S. Coast Guard

Cleveland OH 44114

Landholding Agency: Coast Guard

Property Number: 88201040004

Status: Excess

Reasons: Secured Area, Extensive deterioration

Oklahoma

Bldg. 193

Vance AFB

Vance OK 73705

Landholding Agency: Air Force

Property Number: 18201010015

Status: Excess

Reasons: Secured Area

3 Bldgs.

Altus AFB

Altus OK 73523

Landholding Agency: Air Force

Property Number: 18201040013

Status: Excess

Directions: 296,444,503

Reasons: Within 2000 ft. of flammable or explosive material, Within airport runway clear zone

Control Tower Facility 163

626 Elam Road

Vance Air Force Base

Vance OK

Landholding Agency: Air Force

Property Number: 18201110006

Status: Excess

Reasons: Secured Area, Within airport runway clear zone

Oregon

Bldg. 1001

ANG Base

Portland OR 97218

Landholding Agency: Air Force

Property Number: 18200820018

Status: Underutilized

Reasons: Within 2000 ft. of flammable or explosive material, Secured Area

Bldgs. B023, B002

USCG Air Station

North Bend OR

Landholding Agency: Coast Guard

Property Number: 88201040002

Status: Unutilized

Reasons: Within 2000 ft. of flammable or explosive material, Secured Area

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

8 Bldgs.

Shaw AFB

Sumter SC 29152

Landholding Agency: Air Force

Property Number: 18200920021

Status: Unutilized

Directions: B14, B22, B31, B116, B218, B232, B343, B3403

Reasons: Secured Area

Bldg. B1626

Shaw AFB

Sumter SC 29152

Landholding Agency: Air Force

Property Number: 18200930010

Status: Unutilized

Reasons: Within 2000 ft. of flammable or explosive material, Secured Area

10 Bldgs.

Shaw AFB

Sumter SC 29152

Landholding Agency: Air Force

Property Number: 18200940014

Status: Unutilized

Directions: B16, B34, B122, B219, B220, B221, B403, B418, B428, B430

Reasons: Secured Area

5 Bldgs.

Shaw AFB

Sumter SC 29152

Landholding Agency: Air Force

Property Number: 18200940015

Status: Unutilized

Directions: B800, B900, B911, B1040, B1041

Reasons: Secured Area

7 Bldgs.

Shaw AFB

Sumber SC 29152

Landholding Agency: Air Force

Property Number: 18200940016

Status: Unutilized

Directions: B1702, B1707, B1708, B1804, B1813, B1907, B5226

Reasons: Secured Area

7 Bldgs.

Shaw AFB

Sumter SC 29152

Landholding Agency: Air Force

Property Number: 18201020017

Status: Unutilized

Directions: B1026, B400, B401, B1402, B1701, B1711, and B1720

Reasons: Secured Area

Bldgs. B40006 and B40009

Shaw AFB

Wedgefield SC 29168

Landholding Agency: Air Force

Property Number: 18201020018

Status: Unutilized

Reasons: Secured Area

Bldg. B411

Shaw AFB

Sumter SC 29152

Landholding Agency: Air Force

Property Number: 18201030010

Status: Excess

Reasons: Secured Area, Within 2000 ft. of flammable or explosive material

25 Bldgs.

JB Charleston

N. Charleston SC 29404

Landholding Agency: Air Force

Property Number: 18201040006

Status: Excess

Directions: 1501B, 1503A, 1503B, 1506A, 1508A, 1508B, 1512A, 1514A, 1520A, 1520B, 1529A, 1531A, 1531B, 1533A, 1533B, 1537A, 1539A, 1540A, 1540B, 1563A, 1563B, 1565B, 1576A, 1577A, 1577B

Reasons: Secured Area

20 Bldgs.

JB Charleston

N. Charleston SC 29404

Landholding Agency: Air Force

Property Number: 18201040007

Status: Excess

Directions: 1505A, 1505B, 1506B, 1507B, 1510A, 1510B, 1514B, 1516A, 1516B, 1518B, 1532B, 1533B, 1538B, 1539B, 1575B, 1576B, 1576B, 1578B, 1579B, 1580A, 1580B

Reasons: Secured Area

13 Bldgs.

JB Charleston

N. Charleston SC 29404

Landholding Agency: Air Force

Property Number: 18201040008

Status: Excess

Directions: 1501A, 1507A, 1509A, 1517A, 1518A, 1533A, 1535A, 1538A, 1565A, 1575A, 1578A, 1579A, 1688A

Reasons: Secured Area

4 Bldgs.

JB AFB

N. Charleston SC 29404

Landholding Agency: Air Force

Property Number: 18201040010

Status: Excess

Directions: 1515, 1530, 1536, 1571

Reasons: Secured Area

12 Bldgs.

JB Charleston

N. Charleston SC 29404

Landholding Agency: Air Force

Property Number: 18201040018

Status: Excess

Directions: 1512B, 1529B, 1537B, 1519A, 1519B, 1688B, 1690A, 1690B, 1509B, 1517B, 1521A, 1521B

Reasons: Secured Area

2 Bldgs.

Edwards AFB

Edwards SC 93524

Landholding Agency: Air Force

Property Number: 18201040019

Status: Excess

Directions: 1014, 1015

Reasons: Secured Area

South Dakota

Bldg. 2306

Ellsworth AFB

Meade SD 57706

Landholding Agency: Air Force

Property Number: 18200740008

Status: Underutilized

Reasons: Secured Area, Within 2000 ft. of flammable or explosive material

Bldg. 6927

Ellsworth AFB

Meade SD 57706

Landholding Agency: Air Force

Property Number: 18200830011

Status: Unutilized

Reasons: Secured Area, Within 2000 ft. of flammable or explosive material

Texas

Bldg. 1001

FNXC, Dyess AFB

Tye TX 79563

Landholding Agency: Air Force

Property Number: 18200810008

Status: Unutilized

Reasons: Extensive deterioration

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

5 Bldgs.

Dyess AFB

Abilene TX 79607

Landholding Agency: Air Force

Property Number: 18200840008

Status: Unutilized

Directions: B-9032, 9107, 9114, B-9140, 11900

Reasons: Secured Area

Bldg. B-4228

FNWZ Dyess AFB

Taylor TX 79607

Landholding Agency: Air Force

Property Number: 18200920009

Status: Unutilized

Reasons: Secured Area

Bldgs. B-3701, B-3702

FNWZ Dyess AFB

Pecos TX 79772

Landholding Agency: Air Force

Property Number: 18200920010

Status: Unutilized

Reasons: Secured Area

Bldgs. 1, 2, 3, 4

Tethered Aerostat Radar Site

Matagorda TX 77457

Landholding Agency: Air Force

Property Number: 18200920023

Status: Excess

Reasons: Secured Area

Bldg. 154

Goodfellow AFB

Goodfellow TX 76908

Landholding Agency: Air Force

Property Number: 18200920024

Status: Unutilized

Reasons: Secured Area

Bldg. FNXH 2001

Dyess AFB

Dyess AFB TX 79607

Landholding Agency: Air Force

Property Number: 18200930011

Status: Unutilized

Reasons: Within 2000 ft. of flammable or explosive material Secured Area

6 Bldgs.

Dyess AFB

Dyess AFB TX 79607

Landholding Agency: Air Force

Property Number: 18200930013

Status: Unutilized

Directions: FNWZ 7235, 7312, 7405, 8045, 8120, 9113

Reasons: Secured Area

4 Bldgs.

Dyess AFB

Dyess AFB TX

Landholding Agency: Air Force

Property Number: 18200940017

Status: Unutilized

Directions: FNWZ 5017, 5305, 6015, 6122

Reasons: Secured Area

Bldg. 351

Laughlin AFB

Del Rio TX 78840

Landholding Agency: Air Force

Property Number: 18201010016

Status: Unutilized

Reasons: Secured Area

Bldgs. 112, 113, 141, 741

Goodfellow AFB

Goodfellow TX 76908

Landholding Agency: Air Force

Property Number: 18201010017

Status: Excess

Reasons: Secured Area

Bldgs. 6115, 6126, 6127

Dyess AFB

Dyess TX 79607

Landholding Agency: Air Force

Property Number: 18201030011

Status: Underutilized

Reasons: Secured Area

8 Bldgs.

AFB

Shappard TX 76311-2621

Landholding Agency: Air Force

Property Number: 18201110003

Status: Unutilized

Directions: Bldgs: 17, 19, 21, 147, 526, 726, 982, 1644

Reasons: Extensive deterioration

Barrack

US Coast Guard

Galveston TX 77553

Landholding Agency: Coast Guard

Property Number: 88201040003

Status: Unutilized

Reasons: Secured Area, Extensive deterioration

Virginia

12 Bldgs.

Langley AFB

Langley VA 23665

Landholding Agency: Air Force

Property Number: 18200920012

Status: Unutilized

Directions: 35, 36, 903, 905, 1013, 1020, 1033, 1050, 1066, 1067, 1069, 1075

Reasons: Floodway Secured Area

Bldgs. 38, 52

Langley AFB

Langley VA 23665

Landholding Agency: Air Force

Property Number: 18201010018

Status: Unutilized

Reasons: Extensive deterioration, Secured Area

Bldgs. 52, 568, 731

Langley AFB

Langley VA 23665

Landholding Agency: Air Force

Property Number: 18201030012

Status: Unutilized

Reasons: Extensive deterioration Secured Area

Joint Base Langley Eustis

AFB

Ft. Eustis VA 23604

Landholding Agency: Air Force

Property Number: 18201110011

Status: Unutilized

Reasons: Extensive deterioration

9 Bldgs.

USCG Cape Charles Station

Winters Quarters

Northampton VA 23310

Landholding Agency: Coast Guard

Property Number: 88200740001

Status: Unutilized

Reasons: Extensive deterioration

U.S.C.G. BSU, Admin Bldgs

13800 Old Gently Road

New Orleans VA 70129

Landholding Agency: Coast Guard

Property Number: 88201110003

Status: Unutilized

Directions: Bldgs. 1, 2, 3, 4, 5, 6, 7, 8, 9

Reasons: Secured Area Extensive deterioration

Washington

Defense Fuel Supply Point

18 structures/21 acres

Mukilteo WA

Landholding Agency: Air Force

Property Number: 18200910001

Status: Unutilized

Reasons: Extensive deterioration

West Virginia

Bldgs. 102, 106, 111

Air National Guard

Martinsburg WV 25405

Landholding Agency: Air Force

Property Number: 18200920013

Status: Unutilized

Reasons: Within 2000 ft. of flammable or explosive material Secured Area

Bldgs. 101, 110

Air National Guard

Martinsburg WV 25405

Landholding Agency: Air Force

Property Number: 18200940018

Status: Unutilized

Reasons: Secured Area Within 2000 ft. of flammable or explosive material

Wyoming

Bldg. 00012

Cheyenne RAP

Laramie WY 82009

Landholding Agency: Air Force

Property Number: 18200730013

Status: Unutilized

Reasons: Extensive deterioration Secured Area Within 2000 ft. of flammable or explosive material

California

Facilities 99001 thru 99006

Pt Arena AF Station

Mendocino CA 95468

Landholding Agency: Air Force

Property Number: 18200820028

Status: Excess

Reasons: Secured Area

7 Facilities

Pt. Arena Comm Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Florida

Defense Fuel Supply Point

Lynn Haven FL 32444

Landholding Agency: Air Force

Property Number: 18200740009

Status: Excess

Reasons: Floodway

Illinois

Annex

Scolt Radio Relay

Belleville IL 62221

Landholding Agency: Air Force

Property Number: 18201020011

Status: Unutilized

Reasons: Secured Area

Indiana

1.059 acres

Grissom AFB

Peru IN 46970

Landholding Agency: Air Force

Property Number: 18200940012

Status: Excess

Reasons: Within 2000 ft. of flammable or explosive material

North Dakota

JFSE

4128 27th Ave.

Grand Forks ND 58203

Landholding Agency: Air Force

Property Number: 18201040011

Status: Unutilized

Reasons: Within 2000 ft. of flammable or explosive material

Texas

Rattlesnake ESS

FNWZ, Dyess AFB

Pecos TX 79772

Landholding Agency: Air Force

Property Number: 18200920011

Status: Unutilized

Reasons: Secured Area

24 acres

Tethered Aerostate Radar Site

Matagorda TX 77457

Landholding Agency: Air Force

Property Number: 18200920022

Status: Excess

Reasons: Secured Area

FNXH 99100

Dyess AFB

Dyess AFB TX 79607

Landholding Agency: Air Force

Property Number: 18200930012

Status: Unutilized

Reasons: Within 2000 ft. of flammable or explosive material

2.43 acre/0.36 acre

Dyess AFB

Dyess AFB TX 79563

Landholding Agency: Air Force

Property Number: 18200930014

Status: Unutilized

Directions: FNXL 99104, 99108, 99110, 99112, FNXM 99102, 99103, 99108

Reasons: Within airport runway clear zone

Virginia

Site 3—Cheatham

P.O. Drawer 200

Yorktown VA 23691-0160

Landholding Agency: Navy

Property Number: 77201110004

Status: Unutilized

Directions: on Water Tank near bldg. 101 & T1072, Naval Weapon Station Yorktown

Reasons: Within 2000 ft. of flammable or explosive material, Secured Area

[FR Doc. 2011-4034 Filed 2-24-11; 8:45 am]

BILLING CODE 4210-67-P